NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for operation of a remote field support and emergency provisions for the M/V Discovery. for the 2008-2009 austral summer season. The application is submitted to NSF pursuant to regulations issued under the Antarctic Conservation Act of 1978.

DATES: Interested parties are invited to submit written data, comments, or views with respect to this permit application within August 13, 2008. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale, Environmental Officer at the above address or (703) 292-8030.

SUPPLEMENTARY INFORMATION: NSF's Antarctic Waste Regulation, 45 CFR Part 671, requires all U.S. citizens and entities to obtain a permit for the use or release of a designated pollutants in Antarctica, and for the release of wastes in Antarctica. NSF has received a permit application under this Regulation for Voyages of Discovery's vessel, Discovery for operation of remote field support and emergency provisions for passenger landings in Antarctica. On each landing of passengers, emergency gear is taken ashore in case the weather deteriorates and passengers are required to stay ashore for an extended period. Emergency provisions include: food rations, orange smoke signals, a parachute rocket, cyalume light sticks, water bottles, flashlights, thermal protective aids (TPA) and paper towels. All waste products (paper, food, human wastes, and expended smoke signals and parachute rockets) will be removed from Antarctica and properly disposed in an appropriate port of disembarkation. In the event of an accidental spill from a cyalume light stick, all contaminated snow and or soil will be removed. in accordance with Antarctic waste regulations.

Application for the permit is made by: Mark Flager, Vice President, Voyages of Discovery, 1800 SE 10th Avenue, Suite 205, Ft Lauderdale, FL 33316.

Location: Antarctic Peninsula.

Dates: December 6, 2008 to February 10, 2009.

Nadene G. Kennedy,
Permit Officer.

[FR Doc. E8-15854 Filed 7-11-08; 8:45 am]

BILLING CODE 7555-01-P